DEPARTMENT OF TRANSPORTATION

Federal Transit Administration

Notice of Meeting of the Transit Advisory Committee for Safety (TRACS)

AGENCY: Federal Transit Administration, DOT.

ACTION: Notice of meeting.

SUMMARY: This notice announces a public meeting of the Transit Advisory Committee for Safety (TRACS). TRACS is a Federal Advisory Committee established to provide information, advice, and recommendations to the Secretary of the U.S. Department of Transportation and the Federal Transit Administrator on matters relating to the safety of public transportation systems.

DATES: The TRACS meeting will be held on November 29, 2016, from 9 a.m. to 5 p.m., and November 30, 2016, from 9 a.m. to 1 p.m. Contact Adrianne Malasky (see contact information below) by November 15, 2016, if you wish to be added to the visitors list to gain access to the meeting.

ADDRESSES: The meeting will be held at the National Association of Home Builders, 1201 15th Street NW., Washington, DC 20005.

FOR FURTHER INFORMATION CONTACT: Adrianne Malasky, Office of Transit Safety and Oversight, Federal Transit Administration, 1200 New Jersey Avenue SE., Washington, DC 20590-0001 (telephone: 202-366-5496; or email: TRACS@dot.gov).

SUPPLEMENTARY INFORMATION: This notice is provided in accordance with the Federal Advisory Committee Act (Pub. L. 92-463, 5 U.S.C. App. 2). TRACS is composed of 29 members representing the broad base of expertise necessary to discharge its responsibilities. The tentative agenda for the November 29-30 meeting of TRACS is set forth below:

Agenda

(1) Introductory Remarks

(2) Facility Use/Safety Briefing

(3) Updates from the FTA Office of Transit Safety and Oversight and the Office of Research, Demonstration and Innovation

(4) Work Group Presentations and Deliberations on Recommendations to FTA

(5) Public Comments

(6) Summary of Deliverables/Concluding Remarks

Members of the public wishing to attend and/or make an oral statement and participants seeking special accommodations at the meeting must contact Adrianne Malasky by November 15, 2016.

Members of the public may submit written comments or suggestions concerning the activities of TRACS at any time before or after the meeting at TRACS@dot.gov, or to the U.S. Department of Transportation, Federal Transit Administration, Office of Transit Safety and Oversight, Room E54-425, 1200 New Jersey Avenue SE., Washington, DC 20590. Attention: Adrianne Malasky.

Information from the meeting will be posted on FTA's public Web site at https://www.transit.dot.gov/, on the TRACS Meeting Minutes page. Written comments submitted to TRACS will also be posted at the above web address.

Carolyn Flowers,
Acting Administrator.

[FR Doc. 2016-26269 Filed 10-31-16; 8:45 am]

BILLING CODE P